DEPARTMENT OF THE TREASURY

Internal Revenue Service

Performance Review Board

AGENCY: Internal Revenue Service (IRS), Treasury.

ACTION: Notice of Members of Senior Executive Service Performance Review Board.

EFFECTIVE DATE: October 1, 2001.

FOR FURTHER INFORMATION CONTACT: Sue Greenstein, 1111 Constitution Avenue, NW, N:ADC:H:S Room 3513, Washington, DC 20224, (202) 622-8514 (not a toll-free number.)

SUPPLEMENTARY INFORMATION: As required by Chapter 43, Subchapter II, Section 43148(4) of Title 5, U.S. Code and Part 430, Subpart C. Section 430.307, the following executives are members of the Internal Revenue Service's Senior Executive Service Performance Review Board (PRB):

Robert E. Wenzel Deputy Commissioner and Chairperson, Service-wide Performance Review Board

Robert F. Albicker Deputy Associate Commissioner, Systems Integration

Tyrone B. Ayers Director, Communications, Assistance, Research, and Education

Leonard Baptiste, Jr. Director, Security and Privacy Oversight

Darlene R. Berthod Deputy Commissioner Tax Exempt and Government Entities

Daniel L. Black, Jr. Chief Appeals

Delena D. Bratton Deputy Chief/National Director, Government Liaison and Disclosure

Dennis E. Crawford Deputy Chief, Criminal Investigation

John M. Dalrymple Commissioner, Wage and Investment

Mary E. Davis Director, Strategy and Finance

John C. Duder Deputy Commissioner, Wage and Investment

Dale F. Hart Deputy Commissioner, Small Business and Self-Employed

Joseph G. Kehoe Commissioner, Small Business and Self-Employed

Henry O. Lamar, Jr. Deputy National Taxpayer Advocate

Larry R. Langdon Commissioner, Large and Mid-Size Business

David A. Mader Assistant Deputy Commissioner

Richard J. Morgante Director, Management and Finance

Deborah M. Nolan Deputy Commissioner, Large and Mid-Size Business

Evelyn A. Petschek Commissioner, Tax Exempt and Government Entities

John A. Ressler Director, Customer Account Services

James J. Rinaldi Director, Information Technology

Gregory D. Rothwell Deputy Chief, Agency-Wide Shared Services

Gerald J. Songy Director, Taxpayer Education and Communication

Linda E. Stiff Director, Compliance

John R. Watson Director, Customer Account Services

James A. Williams Deputy Associate Commissioner, Program Management

Toni L. Zimmerman Deputy Director, Information Technology

This document does not meet the Department of Treasury's criteria for significant regulations.

Dated: August 3, 2001.
Charles O. Rossotti,
Commissioner of Internal Revenue.

[FR Doc. 01-20003 Filed 8-8-01; 8:45 am]

BILLING CODE 4830-01-P